DEPARTMENT OF HOMELAND SECURITY

Coast Guard

[Docket No. USCG-2014-0937]

Announcement of Public Meetings Regarding the Florida East Coast Railroad Bridges, St. Lucie River, Stuart; Loxahatchee River, Jupiter; and New River, Fort Lauderdale, FL

AGENCY: Coast Guard, DHS.

ACTION: Notice of public meeting.

SUMMARY: The Coast Guard will hold three public meetings for citizens to provide oral and written comments relating to the current and future operations of the Florida East Coast Railroad Bridges across the St. Lucie River in Stuart, Florida, the Loxahatchee River, Jupiter, Florida, and the New River in Fort Lauderdale, Florida. The Coast Guard is soliciting public comment relating to navigation through these bridges. Specific interests include the current and future impact of bridge closings on navigation. These meetings will be open to the public.

DATES: A public meeting will be held on November 12, 2014 from 6:30 p.m. to 9 p.m., at the Anne Kolb Nature Center at West Lake Park, 751 Sheridan Street, Hollywood, Florida to provide an opportunity for oral and written comments regarding navigation on the New River, Fort Lauderdale, Florida. A public meeting will be held on November 13, 2014 from 5:30 p.m. to 8:00 p.m. at the John F. Armstrong Wing Auditorium of the Blake Library, 2351 SE Monterey Rd., Stuart, Florida to provide an opportunity for oral and written comments regarding navigation on the Saint Lucie River, Stuart, Florida. A public meeting will be held on November 14, 2014 from 5:30 p.m. to 8:30 p.m. at the Town of Jupiter Council Chambers, 210 Military Trail, Jupiter, Florida to provide an opportunity for oral and written comments regarding navigation on the Loxahatchee River, Jupiter, Florida.

If you would like to submit written materials, please send comments to the Coast Guard's Seventh District Bridge Branch no later than December 1, 2014 using any of the four methods listed below. If you request to make an oral presentation at the meeting please provide your name and contact information to the Coast Guard's Seventh District Bridge Branch no later than November 7, 2014 using any one of the four methods listed below. Requests to make oral comments, written comments and related material may also be submitted to Coast Guard personnel specified at the meeting.

You may submit comments, materials, or requests to make oral presentation to using any one of the following methods:

(1) Fax: (305) 415-6763.

(2) Mail: Brickell Federal Building C/O Seventh Coast Guard District Bridge Branch, 909 SE 1ST AVE, Miami, FL, 33131-3050.

(3) Hand delivery: Same as mail address above, between 9 a.m. and 5 p.m., Monday through Friday, except Federal holidays. The telephone number is (305) 415-6946.

(4) Email: USCGD7DPBPublicComment@uscg.mil.

See the “Public Participation and Request for Comments” portion of the SUPPLEMENTARY INFORMATION section below for instructions on submitting comments. To avoid duplication, please use only one of these methods.

FOR FURTHER INFORMATION CONTACT: If you have questions regarding this meeting, call or email Mr. Gene Stratton, Coast Guard Bridge Branch; telephone at 305-415-6740 or email USCGD7DPBPublicComment@uscg.mil.

SUPPLEMENTARY INFORMATION:

A. Public Participation and Request for Comments

We encourage you to participate in this public meeting by submitting comments and related materials.

1. Submitting Comments

If you submit a comment, please include the docket number for these public meeting (USCG-2014-0937), indicate the specific section of this document to which each comment applies, and provide a reason for each suggestion or recommendation. You may submit your comments and material by email, or by fax, mail or hand delivery, but please use only one of these means. If you submit a comment by email, it will be considered received by the Coast Guard when you successfully transmit the comment. If you fax, hand deliver, or mail your comment, it will be considered as having been received by the Coast Guard when it is received at the Seventh Coast Guard District Bridge Branch. We recommend that you include your name and a mailing address, an email address, or a phone number in the body of your document so that we can contact you if we have questions regarding your submission.

If you submit your comments by mail or hand delivery, submit them in an unbound format, no larger than 8½ by 11 inches, suitable for copying and electronic filing. If you submit them by mail and would like to know that they reached the Facility, please enclose a stamped, self-addressed postcard or envelope. We will consider all comments and material received during the comment period.

2. Viewing Comments and Documents

To view comments, as well as documents mentioned in this preamble as being available call (305) 415-6946 to arrange a visit to the Brickell Federal Building Suite 432, 909 SE 1ST AVE, Miami, FL, 33131-3050, between 9 a.m. and 5 p.m., Monday through Friday, except Federal holidays.

3. Privacy Act

Anyone can view comments received by the name of the individual submitting the comment (or signing the comment, if submitted on behalf of an association, business, labor union, etc.). You may review a Privacy Act notice regarding our public dockets in the January 17, 2008 issue of the Federal Register (73 FR 3316).

B. Basis and Purpose

The Coast Guard will hold three public meetings for citizens to provide oral and written comments relating to the current and future operations of the Florida East Coast Railroad Bridges across the St. Lucie River in Stuart, Florida; the Loxahatchee River, Jupiter, Florida; and the New River in Fort Lauderdale, Florida. The Coast Guard is soliciting public comment relating to navigation through these bridges. Specific interests include the current impact to navigation through these bridges related to bridge closings for rail traffic and comments related to future navigation impacts from proposed increases of rail traffic.

It is the intent of the Seventh Coast Guard District Bridge Administration Branch to collect comments from these public meetings along with navigation surveys and other information to establish and preserve the reasonable needs of navigation on these three rivers.

C. Procedural

The meetings are open to the public. Attendees at the meetings, who wish to present testimony and have not previously made a request to do so, will follow those having submitted a request, as time permits. If a large number of persons wish to speak, the presiding officer may limit the time allotted to each speaker. Conversely, the public meetings may end early if all present wishing to speak have done so.

D. Information on Services for Individuals With Disabilities

For information on facilities or services for individuals with disabilities or to request special assistance at the meeting, contact the individual listed in the FOR FURTHER INFORMATION CONTACT section as soon as possible.

Dated: October 27, 2014.
J.H. Korn,
Rear Admiral, U.S. Coast Guard, Commander, Seventh Coast Guard District.

[FR Doc. 2014-26750 Filed 11-10-14; 8:45 am]

BILLING CODE 9110-04-P